ENVIRONMENTAL PROTECTION AGENCY

40 CFR Part 52

[MT-001-0024, MT-001-0025, MT-001-0026; FRL-6883-6]

Clean Air Act Approval and Promulgation of Air Quality Implementation Plan; Montana; East Helena Lead State Implementation Plan

Correction

In proposed rule document 00-25929 beginning on page 60144 in the issue of Tuesday, October 10, 2000, make the following correction:

1. On page 30147, in the table, under the heading “Description ”, in the fifth line, after “similar”, add “provisions ”.

2. On the same page, in the first column, in footnote 2, in the 12th line, after “our” add “approval of the modification or alternative. (We caution that our failure to make such”.

3. On the same page, in the second column, in footnote 2, in the first line, “mentodology” should read “methodology”.

4. On the same page, in the same column, in the same footnote, in the fourth line, after “revision” add “in accordance with the provisions of Title I of the Act, pursuant to notice and comment”.

5. On the same page, in the same column, in footnote 3, in the fifth line, “march” should read “March”.

6. On the same page, in the same column, in the same footnote, in the last line, “Pager” should read “Paper”.

7. On the same page, in the third column, in the same footnote, in the second line, “discuss” should read “discusses” and “provess” should read “process”.

8. On the same page, in the same column, in the same footnote, in the fifth line, “sate” should read “State”; “actucally using” should read “actually issuing”.

9. On the same page, in the same column, in the same footnote, in the sixth line, “source-specicfic” should read “source-specific ”.

10. On the same page, in the same column, remove the first footnote 4.

[FR Doc. C0-25929 Filed 11-9-00; 8:45 am]

BILLING CODE 1505-01-D

ENVIRONMENTAL PROTECTION AGENCY

40 CFR Part 52

[AL-200018; FRL-6892-2]

Approval and Promulgation of State Implementation Plans (SIP) for the State of Alabama-Call for 1-Hour Attainment Demonstration for the Birmingham, Alabama Marginal Ozone Nonattainment Area

Correction

In rule document 00-27584 beginning on page 64352 in the issue of Friday, October 27, 2000, make the following correction:

§52.66 [Corrected]

On page 64357, in the second column, in §52.66(b), in the fourth line, “April 27, 2000” should read “April 27, 2001”.

[FR Doc. C0-27584 Filed 11-9-00; 8:45 am]

BILLING CODE 1505-01-D

DEPARTMENT OF THE INTERIOR

Fish and Wildlife Service

50 CFR Part 17

RIN 1018-AG71

Endangered and Threatened Wildlife and Plants; Determinations of Whether Designation of Critical Habitat Is Prudent for 81 Plants and Proposed Designations for 76 Plants From the Islands of Kauai and Niihau, Hawaii

Correction

In proposed rule document 00-28214 beginning on page 66808 in the issue of Tuesday, November 7, 2000, make the following correction:

On page 66808, in the second column, in the DATES section, “December 7, 2000” should read “January 8, 2001”.

[FR Doc. C0-28214 Filed 11-9-00; 8:45 am]

BILLING CODE 1505-01-D

DEPARTMENT OF JUSTICE

Drug Enforcement Administration

21 CFR Part 1313

[DEA-197P]

RIN 1117-AA53

Waiver of Advance Notification Requirement to Import Acetone, 2-Butanone (MEK), and Toluene

Correction

In proposed rule document 00-27426 beginning on page 63822 in the issue of Wednesday, October 25, 2000, make the following correction:

On page 63824, in the first column, under the List of Subjects in 21 CFR Part 1313, in the fourth line, “recording” should read “recordkeeping”.

[FR Doc. C0-27426 Filed 11-9-00; 8:45 am]

BILLING CODE 1505-01-D

LEGAL SERVICES CORPORATION

Sunshine Act Meeting of the Board of Directors

Correction

In notice document 00-28460 beginning on page 66563, in the issue of Monday, November 6, 2000, make the following correction:

On page 66563, in the third column, under the heading Open Session, in the eighth line, “ Esther Lardent, ABA Director of the Pro Bono Center” should read “Esther Lardent, Representative of the ABA's Standing Committee on Legal Aid and Indigent Defendants”.

[FR Doc. C0-28460 Filed 11-9-00; 8:45 am]

BILLING CODE 1505-01-D